DEPARTMENT OF COMMERCE

International Trade Administration

[A-570-104]

Alloy and Certain Carbon Steel Threaded Rod From the People's Republic of China: Final Results of Antidumping Duty Administrative Review; 2022-2023

AGENCY: Enforcement and Compliance, International Trade Administration, Department of Commerce.

SUMMARY: The U.S. Department of Commerce (Commerce) determines that Ningbo Dongxin High-Strength Nut Co., Ltd. (Ningbo Dongxin), the sole mandatory respondent in this review and an exporter of alloy and certain carbon steel threaded rod (steel threaded rod) from the People's Republic of China (China), sold subject merchandise in the United States at prices below normal value during the period of review April 1, 2022, through March 31, 2023.

DATES: Applicable June 21, 2024.

FOR FURTHER INFORMATION CONTACT: Claudia Cott, AD/CVD Operations, Office I, Enforcement and Compliance, International Trade Administration, U.S. Department of Commerce, 1401 Constitution Avenue NW, Washington, DC 20230; telephone: (202) 482-4270.

SUPPLEMENTARY INFORMATION:

Background

On May 1, 2024, Commerce published the preliminary results of the 2022-2023 administrative review of the antidumping duty order on steel threaded rod from China in the Federal Register and invited interested parties to comment.¹ We received no comments from interested parties on the Preliminary Results and have made no changes to the Preliminary Results. Accordingly, no decision memorandum accompanies this Federal Register notice. The Preliminary Results are hereby adopted in these final results. Commerce conducted this administrative review in accordance with section 751(a) of the Tariff Act of 1930, as amended (the Act).

¹ See Alloy and Certain Carbon Steel Threaded Rod from the People's Republic of China: Preliminary Results and Partial Rescission of Antidumping Duty Administrative Review; 2022-2023, 89 FR 35069 (May 1, 2024) (Preliminary Results), and accompanying Preliminary Decision Memorandum (PDM).

Scope of the Order ²

² See Alloy and Certain Carbon Steel Threaded Rod from the People's Republic of China: Antidumping Duty Order, 85 FR 19929 (April 9, 2020) (Order).

The merchandise covered by the Order is alloy and certain carbon steel threaded rod from China. For a complete description of the scope of the order, see the Preliminary Results.³

³ See Preliminary Results PDM at 2-3.

China-Wide Entity

As stated in the Preliminary Results, because no party requested a review of the China-wide entity in this review, the China-wide entity is not under review and the China-wide entity's rate, i.e., 48.91 percent, is not subject to change.⁴

⁴ See Preliminary Results, 89 FR at 35071.

Final Results of Review

We determine that the following weighted-average dumping margin exists for the period April 1, 2022, through March 31, 2023, for the mandatory respondent:

Exporter | Weighted- average dumping margin (percent)
Ningbo Dongxin High-Strength Nut Co., Ltd | 35.10

Disclosure

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Consistent with section 751(a)(2)(C) of the Act and 19 CFR 351.212(b), Commerce has determined, and U.S. Customs and Border Protection (CBP) shall assess, antidumping duties on all appropriate entries of subject merchandise covered this review. Because Ningbo Dongxin's weighted-average dumping margin is not zero or de minimis, i.e., less than 0.50 percent, we intend to instruct CBP to liquidate entries at the importer-specific assessment rate for antidumping duties calculated based on the ratio of the total amount of dumping calculated for each importer's examined sales and the total entered value of those same sales in accordance with 19 CFR 351.212(b)(1).⁵ These final results of administrative review shall be the basis for the assessment of antidumping duties on entries of merchandise covered by these final results of this review and for future deposits of estimated duties, where applicable.⁶

⁵ See Antidumping Proceedings: Calculation of the Weighted-Average Dumping Margin and Assessment Rate in Certain Antidumping Proceedings; Final Modification, 77 FR 8101, 8102-03 (February 14, 2012).

⁶ See section 751(a)(2)(C) of the Act.

Commerce intends to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of this notice of final results of administrative review for all shipments of steel threaded rod from China entered, or withdrawn from warehouse, for consumption on or after the publication date of these final results of review, as provided in section 751(a)(2)(C) of the Act: (1) for the subject merchandise exported by the company listed above that has a separate rate, the cash deposit rate will be equal to the weighted-average dumping margin established in the final results of this administrative review, i.e., 35.10 percent; (2) for previously investigated or reviewed Chinese and non-Chinese exporters of subject merchandise not listed above that received a separate rate in a prior segment of this proceeding, the cash deposit rate will continue to be the existing exporter-specific rate; (3) for all Chinese exporters of subject merchandise that have not been found to be entitled to a separate rate, the cash deposit rate will be that for the China-wide entity, i.e., 48.91 percent; ⁷ and (4) for all non-Chinese exporters of subject merchandise which have not received their own rate, the cash deposit rate will be the rate applicable to the Chinese exporter that supplied that non-Chinese exporter. These cash deposit requirements, when imposed, shall remain in effect until further notice.

⁷ See Order, 85 FR at 19930, adjusted for export subsidies as outlined in Alloy and Certain Carbon Steel Threaded Rod from the People's Republic of China: Final Results of Antidumping Duty Administrative Review; 2021-2022, 88 FR 18117 (March 27, 2023).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing these final results of this review in accordance with sections 751(a)(1) and 777(i)(1) of the Act, and 19 CFR 351.221(b)(5).

Dated: June 13, 2024.
Ryan Majerus,
Deputy Assistant Secretary for Policy and Negotiations, performing the non-exclusive functions and duties of the Assistant Secretary for Enforcement and Compliance.

[FR Doc. 2024-13555 Filed 6-20-24; 8:45 am]

BILLING CODE 3510-DS-P